FEDERAL COMMUNICATIONS COMMISSION

[DA 17-911]

Opening of Second Filing Window for Eligible Full Power and Class A Television Stations

AGENCY: Federal Communications Commission.

ACTION: Notice.

SUMMARY: This document announces that the second filing window for eligible full power and Class A television stations to file applications for alternate channels or expanded facilities will be open from October 3, 2017 through November 2, 2017.

DATES: September 27, 2017.

FOR FURTHER INFORMATION CONTACT: Joyce Bernstein, Joyce.Bernstein@fcc.gov, or Kevin Harding, Kevin.Harding@fcc.gov, Video Division, Media Bureau, Federal Communications Commission.

SUPPLEMENTARY INFORMATION: Auction 1000, which was conducted pursuant to Title VI of the Middle Class Tax Relief and Job Creation Act of 2012, was completed on April 13, 2017, and the Commission initiated a transition period during which broadcast television stations that received new channel assignments in the April 13, 2017 Closing and Channel Reassignment Public Notice will be reauthorized and relicensed. The deadline for applications for construction permits consistent with the requirements of that Public Notice were due July 12, 2017. The first priority filing window, which limited eligibility to a discrete number of stations, closed on September 15, 2017.

The second filing window opens on Tuesday, October 3, 2017 and closes at 11:59 p.m. EDT on Thursday, November 2, 2017, and any broadcast television station that received a new channel reassignment in the incentive auction repacking process may file during the second window. Eligible stations may file applications for expanded facilities that qualify as a minor change under the Commission's rules, or for alternate channels which will be treated as major change applications under the Commission's rules. Applicants must protect the construction permit facilities of stations assigned to new channels, whether those stations' applications have been granted or remain pending, the facilities specified in applications that were filed before the April 2013 freeze on applications proposing to extend a station's contour, and the facilities proposed in the first priority filing window, whether those station's applications have been granted or remain pending. Applications filed by Class A stations must also demonstrate that the proposal would not cause interference to a low power television or translator facility previously authorized or proposed. A station that files an application that is incomplete or defective will be afforded an opportunity to submit an amendment to correct any defects, and failure to correct will result in dismissal of the application.

Applications filed during the second filing window will be treated as filed on the last day of the window for purposes of determining mutual exclusivity. Stations with mutually exclusive applications will be notified and given a 90-day period to resolve their mutual exclusivity by proposing a technical solution or settlement in an amendment to their pending applications.

Federal Communications Commission.
Thomas Horan,
Chief of Staff, Media Bureau.

[FR Doc. 2017-20656 Filed 9-26-17; 8:45 am]

BILLING CODE 6712-01-P